DEPARTMENT OF COMMERCE

National Oceanic and Atmospheric Administration

50 CFR Part 622

[Docket No. 101124587-0586-01]

RIN 0648-BA47

Fisheries of the Caribbean, Gulf of Mexico, and South Atlantic; Snapper-Grouper Fishery Off the South Atlantic States; Emergency Rule To Delay Effectiveness of the Snapper-Grouper Area Closure; Correction

AGENCY: National Marine Fisheries Service (NMFS), National Oceanic and Atmospheric Administration (NOAA), Commerce.

ACTION: Temporary rule; correction.

SUMMARY: This document contains a correction to the temporary rule that delays the effective date of the area closure for snapper-grouper specified in Amendment 17A to the Fishery Management Plan for the Snapper-Grouper Fishery of the South Atlantic Region (FMP) that was published in the Federal Register December 9, 2010.

DATES: Effective December 20, 2010, the effective date of the rule published in the Federal Register December 9, 2010 (75 FR 76890), is corrected to January 3, 2011, through June 1, 2011, unless NMFS publishes a superseding document in the Federal Register.

FOR FURTHER INFORMATION CONTACT: Anik Clemens, 727-824-5305; fax: 727-824-5308; e-mail: Anik.Clemens@noaa.gov.

SUPPLEMENTARY INFORMATION:

Need for Correction

On December 9, 2010 (75 FR 76890), NMFS published an incorrect effective date in the DATES section of the temporary rule. The DATES section contained an incorrect effective date of January 3, 2010. The correct effective date for the temporary rule is January 3, 2011, through June 1, 2011, unless NMFS publishes a superseding document in the Federal Register. This document corrects that effective date.

Correction

In FR Doc. 2010-30682 appearing on page 78158 in the Federal Register of December 9, 2010, correct the DATES section to read as follows:

DATES: This rule is effective January 3, 2011 through June 1, 2011, unless NMFS publishes a superseding document in the Federal Register.

Authority: 16 U.S.C. 1801 et seq.

Dated: December 15, 2010.
John Oliver,
Deputy Assistant Administrator for Operations, National Marine Fisheries Service.

[FR Doc. 2010-31917 Filed 12-17-10; 8:45 am]

BILLING CODE 3510-22-P